DEPARTMENT OF THE TREASURY

Internal Revenue Service

26 CFR Part 1

[REG-116468-00]

RIN 1545-AY43

Minimum Cost Requirement Permitting the Transfer of Excess Assets of a Defined Benefit Pension Plan to a Retiree Health Account; Hearing Cancellation

AGENCY: Internal Revenue Service (IRS), Treasury.

ACTION: Cancellation of notice of public hearing on proposed rulemaking.

SUMMARY: This document provides notice of cancellation of a public hearing on proposed Income Tax Regulations relating to the minimum cost requirement under section 420, which permits the transfer of excess assets of a defined benefit pension plan to a retiree health account.

DATES: The public hearing originally scheduled for March 15, 2001, at 10 a.m., is canceled.

FOR FURTHER INFORMATION CONTACT: Treena Garrett of the Regulations Unit, Office of Special Counsel (Modernization & Strategic Planning), (202) 622-7180 (not a toll-free number).

SUPPLEMENTARY INFORMATION: A notice of proposed rulemaking and notice of public hearing that appeared in the Federal Register on January 5, 2001 (66 FR 1066), announced that a public hearing was scheduled for March 15, 2001, at 10 a.m., in Auditorium, Internal Revenue Service Building, 1111 Constitution Avenue, NW., Washington, DC. The subject of the public hearing is proposed regulations under section 420 of the Internal Revenue Code. The public comment period for these proposed regulations expired on March 6, 2001.

The notice of proposed rulemaking and notice of public hearing, instructed those interested in testifying at the public hearing to submit a request to speak and an outline of the topics to be addressed. As of March 5, 2001, no one has requested to speak. Therefore, the public hearing scheduled for March 15, 2001, is canceled.

Cynthia E. Grigsby,
Chief, Regulations Unit, Office of Special Counsel (Modernization and Strategic Planning).

[FR Doc. 01-5770 Filed 3-7-01; 8:45 am]

BILLING CODE 4830-01-P